ENVIRONMENTAL PROTECTION AGENCY

40 CFR Part 52

[EPA-R10-OAR-2014-0477, FRL-9921-41-Region 10]

Approval and Promulgation of Implementation Plans; Idaho

AGENCY: Environmental Protection Agency (EPA).

ACTION: Proposed rule.

SUMMARY: The EPA is proposing to partially approve the May 22, 2014, State Implementation Plan (SIP) submittal from Idaho to revise the SIP to update the incorporation by reference of Federal air quality regulations into the SIP. In addition, the EPA is proposing to partially disapprove Idaho's incorporation by reference of certain provisions of the Federal prevention of significant deterioration (PSD) permitting rules that have been vacated by a Federal Court. Upon final action, the Idaho SIP would incorporate by reference certain Federal regulations as of July 1, 2013.

DATES: Comments must be received on or before February 6, 2015.

ADDRESSES: Submit your comments, identified by Docket ID No. EPA-R10-OAR-2014-0477, by any of the following methods:

• www.regulations.gov: Follow the on-line instructions for submitting comments.

• Email: R10-Public_Comments@epa.gov.

• Mail: Heather Valdez, EPA Region 10, Office of Air, Waste and Toxics (AWT-150), 1200 Sixth Avenue, Suite 900, Seattle, WA 98101.

• Hand Delivery: EPA Region 10 Mailroom, 9th Floor, 1200 Sixth Avenue, Suite 900, Seattle, WA 98101. Attention: Heather Valdez, Office of Air, Waste and Toxics, (AWT-150). Such deliveries are only accepted during normal hours of operation, and special arrangements should be made for deliveries of boxed information

Instructions: Direct your comments to Docket ID No. EPA-R10-OAR-2014-0477. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information the disclosure of which is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle, WA 98101.

FOR FURTHER INFORMATION CONTACT: Heather Valdez at: (206) 553-6220, valdez.heather@epa.gov, or the above EPA, Region 10 address.

SUPPLEMENTARY INFORMATION: Throughout this document wherever “we”, “us” or “our” is used, it is intended to refer to the EPA. Information is organized as follows:

Table of Contents

I. Background

II. Analysis of State Submittal

A. Summary and Analysis of Submittal

B. Effect of Court Decisions Vacating and Remanding Certain Federal Rules

1. PM2.5 Nonattainment NSR Provisions

2. PM2.5 PSD Provisions

3. PSD Deferral of Certain Emissions From Biogenic Sources

4. PSD Greenhouse Gas Tailoring Rule

III. Proposed Action

IV. Statutory and Executive Order Reviews

I. Background

Section 110 of the Clean Air Act (CAA) specifies the general requirements for states to submit SIPs to implement, maintain and enforce the National Ambient Air Quality Standards (NAAQS) and the EPA's actions regarding approval of those SIPs. On May 22, 2014, the State of Idaho (the State) submitted a SIP revision to the EPA to account for regulatory updates adopted by the Idaho Board of Environmental Quality on October 17, 2013. Idaho incorporates by reference (IBR) various portions of Federal regulations codified in the Code of Federal Regulations (CFR) into the Rules for the Control of Air Pollution in Idaho (IDAPA 58.01.01). Idaho then submits parts of IDAPA 58.01.01 to the EPA for approval into the Federally-approved Idaho SIP (generally those provisions that relate to the criteria pollutants regulated under section 110 of the CAA for which the EPA has promulgated NAAQS or other specific requirements of section 110). To ensure that its rules remain consistent with the EPA requirements, Idaho generally updates the IBR citations in IDAPA 58.01.01 on an annual basis and submits a SIP revision to reflect any changes made to the Federal regulations during that year. Idaho's current SIP includes the approved incorporation by reference of specific Federal regulations, revised as of July 1, 2012, at IDAPA 58.01.01.107 “Incorporation by Reference.”

II. Analysis of State Submittal

A. Summary and Analysis of Submittal

On May 22, 2014, the State submitted for approval into the Idaho SIP updates to the incorporation by reference of specific Federal regulations revised as of July 1, 2013. The submitted provisions are found in IDAPA 58.01.01.107 “Incorporations by Reference.” A description of the submitted provisions and how they meet the requirements of section 110 of the CAA is provided below.

In IDAPA 58.01.01.107.02 “Availability of Reference Materials,” paragraph (b) was revised to include a reference to the State of Idaho statutes. This is an informational provision describing where documents that are incorporated by reference elsewhere in the rules are available. This revision to IDAPA 58.01.01.107.02(b) is consistent with CAA requirements as the revision merely identifies where reference materials can be obtained and does not itself impose any regulatory requirements.

IDAPA 58.01.01.107.03 “Documents Incorporated by Reference” updates the citation dates of specific Federal provisions incorporated by reference. Paragraph (a) incorporates by reference the Requirements for Preparation, Adoption, and Submittal of Implementation Plans, 40 CFR part 51, with the exception of certain visibility-related provisions, as of July 1, 2013. This updated incorporation by reference of Federal regulations makes paragraph (a) consistent with Federal law. The incorporation by reference date of July 1, 2013, includes the portion of 40 CFR part 51 relating to nonattainment New Source Review (NSR) requirements at 40 CFR 51.165, which is relied on as part of Idaho's nonattainment area major stationary source permit provisions in IDAPA 58.01.01.204. On January 4, 2013, the U.S. Court of Appeals for the District of Columbia issued a decision related to 40 CFR 51.165. The effect of this decision is discussed below in Section II.B.1. For the reasons above and for the reasons provided in Section II.B.1 relating to 40 CFR 51.165, the EPA proposes to find that paragraph (a) is consistent with CAA requirements.

Paragraph (c) of IDAPA 58.01.01.107.03 incorporates by reference the Approval and Promulgation of Implementation Plans, 40 CFR part 52 subparts A and N and appendices D and E, including the Federal PSD permitting rules in part 52 subpart A at 40 CFR 52.21, as of July 1, 2013. This updated incorporation by reference, except for the incorporation by reference of 40 CFR 52.21(i)(5)(i)(c) (relating to the PM2.5 significant monitoring level) and 40 CFR 52.21(k)(2)(relating to the PM2.5 significant impact level), make the Idaho SIP consistent with Federal law. The excepted provisions, 40 CFR 52.21(i)(5)(i)(c) and 52.21(k)(2), are the subject of a Court decision and the effect of that decision is discussed in Section II.B.2 below. Idaho's incorporation by reference of 40 CFR 52.21(b)(49)(ii)(a) related to a deferral of permitting requirements from bioenergy and other biogenic stationary sources and 40 CFR 52.21 related to greenhouse gas (GHG) emissions are also the subject of recent court decisions and are discussed in Sections II.B.3 and II.B.4, respectively, below. For the reasons above and for the reasons provided in Section II.B.2, II.B.3 and II.B.4, the EPA proposes to determine that paragraph (c) is consistent with CAA requirements, except for the portion of paragraph (c) that incorporates by reference 40 CFR 52.21(i)(5)(i)(c) and 52.21(k)(2), which the EPA proposes to disapprove as inconsistent with CAA requirements.

Paragraphs (b), (d), (e), and (q) of IDAPA 58.01.01.107.03 incorporate by reference the following provisions revised as of July 1, 2013: (b) National Primary and Secondary Ambient Air Quality Standards, 40 CFR part 50; (d) Ambient Air Monitoring Reference and Equivalent Methods, 40 CFR part 53; (e) Ambient Air Quality Surveillance, 40 CFR part 58; and (q) Determining Conformity of Federal Actions to State or Federal Implementation Plans, 40 CFR part 93, subpart A, sections 93.100 through 93.129, although certain subsections are specifically excluded from the State's incorporation by reference. The EPA proposes to determine that paragraphs (b), (d), (e), and (q) are consistent with CAA requirements.

B. Effect of Court Decisions Vacating and Remanding Certain Federal Rules

1. PM2.5 Nonattainment NSR Provisions

On January 4, 2013, the U.S. Court of Appeals for the District of Columbia, in Natural Resources Defense Council (NRDC) v. EPA,¹ issued a decision that remanded the EPA's 2007 and 2008 rules implementing the 1997 PM2.5 NAAQS. Relevant here, the EPA's 2008 implementation rule addressed by the Court decision, “Implementation of New Source Review (NSR) Program for Particulate Matter Less Than 2.5 Micrometers (PM2.5)” (the 2008 NSR PM2.5 Rule),² promulgated NSR requirements for implementation of PM2.5 in both nonattainment areas (nonattainment NSR) and attainment/unclassifiable areas (PSD). The Court concluded that the EPA had improperly based the implementation rule for the 1997 PM2.5 NAAQS solely upon the requirements of part D, subpart 1 of the CAA, and had failed to address the requirements of part D, subpart 4, which establishes additional provisions for particulate matter nonattainment areas. The Court ordered the EPA to “repromulgate these rules pursuant to subpart 4 consistent with this opinion.” Id. at 437. As a result of the Court's decision, the EPA withdrew its guidance for implementing the 2006 PM2.5 NAAQS ³ because the guidance was based largely on the remanded rule promulgated to implement the 1997 PM2.5 NAAQS.⁴ In response to the Court decision, on June 2, 2014, the EPA promulgated the Identification of Nonattainment Classification and Deadlines for Submission of State Implementation Plan (SIP) Provisions for the 1997 Fine Particle (PM2.5) National Ambient Air Quality Standard (NAAQS) and 2006 PM2.5 NAAQS (79 FR 31566). This rule promulgated classifications and deadlines under subpart 4, part D, title I of the CAA for 2006 PM2.5 nonattainment areas, including the only PM2.5 nonattainment area in Idaho, Franklin County (Logan UT-ID 2006 PM2.5 nonattainment area). In light of the EPA's response to the Court decision, we are proposing to approve into the Idaho SIP Idaho's incorporation by reference at IDAPA 58.01.01.107.03(a) of the Federal nonattainment NSR requirements at 40 CFR 51.165 for purposes of meeting the subpart 1 requirements. Because the EPA has not yet proposed revisions to the nonattainment NSR permitting requirements in response to the remand, the EPA is not evaluating at this time whether Idaho's submittal for Franklin County will require additional revisions to satisfy the subpart 4 requirements.⁵

¹ 706 F.3d 428 (D.C. Cir.).

² 73 FR 28321 (May 16, 2008).

³ Memorandum from Stephen D. Page, Implementation Guidance for the 2006 24-Hour Fine Particulate (PM2.5) National Ambient Air Quality Standards (Mar. 2, 2012).

⁴ Memorandum from Stephen D. Page, Withdrawal of Implementation Guidance for the 2006 24-Hour Fine Particle (PM2.5) National Ambient Air Quality Standards (Jun. 6, 2013).

⁵ As discussed above, Idaho's submittal also includes revisions to the Idaho SIP to update the incorporation by reference of the Federal PSD permitting rule at 40 CFR 52.21. Because the requirements of subpart 4 only pertain to nonattainment areas, the EPA does not consider the portions of the 2008 NSR PM2.5 Rule that address requirements for PM2.5 attainment and unclassifiable areas (including PSD permitting rules) to be affected by the Court's decision in NRDC v. EPA.

2. PM2.5 PSD Provisions

As discussed above, IDAPA 58.01.01.107.03(c) incorporates by reference the Federal PSD permitting rules at 40 CFR 52.21. The current Idaho SIP incorporates 40 CFR 52.21 by reference as of July 1, 2012. Idaho's submittal updates the incorporation by reference date of the PSD permitting rules to July 1, 2013 and includes revisions to 40 CFR 52.21(i) (relating to the significant monitoring concentration (SMC)) and 40 CFR 52.21(k) (relating to the significant impact level (SIL)) that added a SMC and SIL for PM2.5 as part of the 2010 PSD PM2.5 Implementation Rule (October 20, 2010, 75 FR 64864).

On January 22, 2013, the U.S. Court of Appeals for the District of Columbia, in Sierra Club v. EPA,⁶ issued, with respect to the SMC, a judgment that, inter alia, vacated the provisions adding the PM2.5 SMC to the Federal regulations at 40 CFR 51.166(i)(5)(i)(c) and 52.21(i)(5)(i)(c). In its decision, the Court held that the EPA did not have the authority to use SMCs to exempt permit applicants from the statutory requirement in section 165(e)(2) of the CAA that ambient monitoring data for PM2.5 be included in all PSD permit applications. Thus, although the PM2.5 SMC was not a required element of a state's PSD program, where a state PSD program contains such a provision and allows issuance of new permits without requiring ambient PM2.5 monitoring data, such application of the vacated SMC would be inconsistent with the Court's opinion and the requirements of section 165(e)(2) of the CAA.

⁶ 703 F.3d 458 (D.C. Cir. 2013).

At the EPA's request, the decision also vacated and remanded to the EPA for further consideration the portions of the 2010 PSD PM2.5 Implementation Rule that revised 40 CFR 51.166 and 40 CFR 52.21 related to SILs for PM2.5. The EPA requested this vacatur and remand of two of the three provisions in the EPA regulations that contain SILs for PM2.5 because the wording of these two SIL provisions (40 CFR 51.166(k)(2) and 40 CFR 52.21(k)(2)) is inconsistent with the explanation of when and how SILs should be used by permitting authorities that we provided in the preamble to the Federal Register publication when we promulgated these provisions. The third SIL provision (40 CFR 51.165(b)(2)) was not vacated and remains in effect. We also note that the Court's decision does not affect the PSD increments for PM2.5 promulgated as part of the 2010 PSD PM2.5 Implementation Rule. The EPA has amended its regulations to remove the vacated PM2.5 SILs and SMC provisions from the PSD regulations (December 9, 2013, 78 FR 73698). The EPA will initiate a separate rulemaking in the future regarding the PM2.5 SILs that will address the Court's remand. In the meantime, the EPA is advising states to begin preparations to remove the vacated provisions from state PSD regulations.

In response to the vacatur of the EPA regulations as they relate to the PM2.5 SMC and the PM2.5 SILs, Idaho stated in the Idaho 2013 IBR Update submittal cover letter dated May, 22, 2014 that the State will not apply either the PM2.5 SMC provisions at 40 CFR 52.21(i)(5)(i)(c) or the PM2.5 SIL provisions at 40 CFR 52.21(k)(2) in Idaho's implementation of the PSD program. In addition, the May, 22, 2014, cover letter stated that Idaho intends to remove the vacated provisions to ensure consistency with Federal law as soon as practicable. Therefore, consistent with our action on Idaho's most recent IBR update (March 3, 2014, 79 FR 11712), we are proposing to partially disapprove the Idaho submittal with respect to the incorporation by reference at IDAPA 58.01.01.107.03(c) of the vacated provisions of 40 CFR 52.21 (namely, 40 CFR 52.21(i)(5)(i)(c) and 40 CFR 52.21(k)(2)).

3. PSD Deferral of Certain Emissions From Biogenic Sources

In 2011, the EPA revised the definition of “subject to regulation” at 40 CFR 52.21(b)(49)(ii)(a) to defer for three years (until July 21, 2014) PSD permitting requirements to carbon dioxide (CO2) emissions from bioenergy and other biogenic stationary sources (Deferral for CO2 Emissions from Bioenergy and Other Biogenic Sources under the Prevention of Significant Deterioration (PSD) and Title V Programs; Final Rule (July 20, 2011, 76 FR 43490) (Biogenic CO2 Deferral Rule)). Idaho's update to incorporate by reference the EPA's PSD permitting rules as of July 1, 2013, includes this revision to 40 CFR 52.21(b)(49)(ii)(a).

On July 12, 2013 the U.S. Court of Appeals for the District of Columbia, in Center for Biological Diversity v. EPA,⁷ vacated the provisions of the Biogenic CO2 Deferral Rule. While the opportunity to seek rehearing of this D.C. Circuit decision remains open and thus the ultimate disposition of the Federal regulations implementing the Biogenic CO2 Deferral Rule has not yet been determined, the deferral expired on July 21, 2014, and by its terms is no longer in effect.

⁷ 722 F.3d 401 (D.C. Cir. 2013).

4. PSD Greenhouse Gas Tailoring Rule

As discussed above, IDAPA 58.01.01.107.03(c) incorporates by reference the Federal PSD permitting rules at 40 CFR 52.21. The current Idaho SIP incorporates 40 CFR 52.21 by reference as of July 1, 2012. Idaho's submittal updates the incorporation by reference date of the PSD permitting rules to July 1, 2013. Therefore Idaho's submittal includes revisions to 40 CFR 52.21(b)(49)(v) (relating to the application of PSD permitting requirements to GHG emissions) promulgated under the Greenhouse Gas Tailoring Rule (June 3, 2010, 75 FR 31514) (Tailoring Rule).

On June 23, 2014, the United States Supreme Court, in Utility Air Regulatory Group v. Environmental Protection Agency,⁸ issued a decision addressing the application of PSD permitting requirements to GHG emissions. The Supreme Court said that the EPA may not treat GHGs as an air pollutant for purposes of determining whether a source is a major source (or modification thereof) required to obtain a PSD permit. The Court also said that the EPA could continue to require that PSD permits, otherwise required based on emissions of pollutants other than GHGs, contain limitations on GHG emissions based on the application of Best Available Control Technology (BACT). In order to act consistently with its understanding of the Court's decision pending further judicial action before the U.S. Court of Appeals for the District of Columbia to effectuate the decision, the EPA is not continuing to apply the EPA regulations that would require that SIPs include permitting requirements that the Supreme Court found impermissible. Specifically, the EPA is not applying the requirement that a state's SIP-approved PSD program require that sources obtain PSD permits when GHGs are the only pollutant (i) that the source emits or has the potential to emit above the major source thresholds, or (ii) for which there is a significant emissions increase and a significant net emissions increase from a modification (e.g. 40 CFR 51.166(b)(48)(v)).

⁸ 134 S.Ct. 2427 (2014).

The EPA anticipates a need to revise Federal PSD rules in light of the Supreme Court decision. In addition, the EPA anticipates that many states will revise their existing SIP-approved PSD programs in light of the Supreme Court's decision. The timing and content of subsequent EPA actions with respect to the EPA regulations is expected to be informed by additional legal processes before the D.C. Circuit. The EPA is not expecting states to have revised their existing PSD program regulations at this juncture, before the D.C. Circuit has addressed these issues and before the EPA has revised its regulations at 40 CFR 51.166 and 52.21. However, the EPA is evaluating PSD program submissions to assure that the state's program correctly addresses GHGs consistent with the Supreme Court's decision.

Idaho's existing approved SIP contains the GHG permitting requirements reflected in 40 CFR 52.21, as amended in the Tailoring Rule. As a result, the PSD permitting program in Idaho previously approved by the EPA into the SIP continues to require that PSD permits (otherwise required based on emissions of pollutants other than GHGs) contain limitations on GHG emissions based on the application of BACT when sources emit or increase GHGs in the amount of 75,000 tons per year (measured as carbon dioxide equivalent). Although the approved Idaho PSD permitting program may also currently contain provisions that are no longer necessary in light of the Supreme Court decision, this does not prevent the EPA from approving this SIP submission. Idaho's May 22, 2014, SIP submission does not add any GHG permitting requirements that are inconsistent with the Supreme Court decision. While Idaho's submission incorporates all of 40 CFR 52.21 for completeness, the submission mostly reincorporates PSD permitting requirements for GHGs that are already in the Idaho SIP.

This revision does add to the Idaho SIP the elements of the EPA's 2012 rule implementing Step 3 of the phase-in of PSD permitting requirements for GHGs described in the Tailoring Rule. 77 FR 41051 (July 12, 2012). This rule became effective on August 13, 2012. Specifically, the incorporation of the Step 3 rule provisions will allow GHG-emitting sources to obtain plantwide applicability limits (PALs) for their GHG emissions on a carbon dioxide equivalent (CO2e) basis. The GHG PAL provisions, as currently written, include some provisions that may no longer be appropriate in light of the Supreme Court decision. Since the Supreme Court has determined that sources and modifications may not be defined as “major” solely on the basis of the level of GHGs emitted or increased, PALs for GHGs may no longer have value in some situations where a source might have triggered PSD based on GHG emissions alone. However, PALs for GHGs may still have a role to play in determining whether a modification that triggers PSD for a pollutant other than GHGs should also be subject to BACT for GHGs. These provisions, like the other GHG provisions discussed previously, will likely be revised pending further legal action. However, these provisions do not add new requirements for sources or modifications that only emit or increase GHGs above the major source threshold or the 75,000 tons per year GHG level in 40 CFR 52.21(b)(49)(iv). Rather, the PALs provisions provide increased flexibility to sources that wish to address their GHG emissions in a PAL. Since this flexibility may still be valuable to sources in at least one context described above, we believe that it is appropriate to approve these provisions into the Idaho SIP at this juncture.

III. Proposed Action

The EPA is proposing to partially approve the May 22, 2014, submittal from Idaho to update the incorporation by reference of Federal air quality regulations into the SIP. Specifically, we are proposing to approve the revisions to IDAPA 58.01.01.107.02 “Availability of Reference Materials” and IDAPA 58.01.01.107.03 “Incorporations by Reference,” except that we are proposing to partially disapprove the revision to IDAPA 58.01.01.107.03(c) as it relates to the incorporation by reference of specific vacated provisions at 40 CFR 52.21 (namely, 40 CFR 52.21(i)(5)(i)(c) and 40 CFR 52.21(k)(2)) for the reasons discussed in Section II.B.2 of this proposal. Upon final action, the Idaho SIP would incorporate by reference specific Federal regulations as of July 1, 2013.

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Ozone, Particulate matter, Reporting and recordkeeping requirements, Volatile organic compounds.

Authority: 42 U.S.C. 7401 et seq.

Dated: December 23, 2014.
Michelle L. Pirzadeh,
Acting Regional Administrator, Region 10.

[FR Doc. 2015-00014 Filed 1-6-15; 8:45 am]

BILLING CODE 6560-50-P